DEPARTMENT OF THE INTERIOR

National Park Service

Colorado River Management Plan, Environmental Impact Statement, Grand Canyon National Park, AZ

AGENCY: National Park Service, Department of the Interior.

ACTION: Notice of intent to prepare an environmental impact statement for the Colorado River Management Plan, Grand Canyon National Park.

SUMMARY: Under the provisions of the National Environmental Policy Act of 1969, the National Park Service (NPS) is preparing an environmental impact statement (EIS) for the Colorado River Management Plan (CRMP) for Grand Canyon National Park. The purpose of this EIS/CRMP is to update management guidelines for the Colorado River corridor through Grand Canyon National Park. Grand Canyon National Park's 1995 General Management Plan provides a high level of direction for the park's developed areas. Additional guidance is needed to effectively manage the Colorado River corridor.

Completion of the EIS process will fulfill an agreement reached through a negotiated settlement of recent litigation between several organization and individuals and the federal government. The settlement requires the NPS to complete the EIS/CRMP by December 31, 2004.

This effort will identify and evaluate alternative for visitor use and levels of motorized and non-motorized trips, the allocation and distribution of use for user groups, and a permit distribution system for noncommercial users. During this process, the NPS will develop and evaluate alternative to address resource protection issues, potential resource impacts, user capacities, and mitigation measures necessary or desirable to avoid or minimize impairment of natural and cultural resources. The NPS will conduct the environmental impact process in consultation with the U.S. Fish and Wildlife Service; the State Historic Preservation Officer; federal and state natural resource management agencies; federally recognized, culturally affiliated American Indian tribes; and other interested parties. The NPS will give attention to resource issues outside of the park's boundaries that affect the integrity of the Grand Canyon. Finally, the NPS will consider alternatives that include no-action (status quo), no motorized use, and varying levels of motorized and non-motorized use.

Major issues include the following: Appropriate levels of visitor use consistent with natural and cultural resource protection and preservation mandates; allocation of use between commercial and non-commercial groups; the permitting system; the level of motorized versus non-motorized raft use; the range of services provided to the public; and, in consultation with the Hualapai Indian Tribe and other appropriate parties, the continued use of helicopters to transport river passengers from the Colorado River near Whitmore Wash.

The public scoping process will involve distribution of a newsletter or scoping brochure for public response and comment. Public meetings will be held at a minimum in Denver, Colorado; Phoenix, Arizona; Flagstaff, Arizona; and Salt Lake City, Utah. In addition to providing specific meeting dates and locations, the newsletter or brochure will describe the proposed project, the issues identified to date, the dates of public scoping meetings, and alternative concepts. Copies of that information may be obtained from CRMP Project Leader, Grand Canyon National Park, P.O. Box 129, Grand Canyon, AZ 86023, 928-638-7945.

DATES: The scoping period will be 60 days from the date this notice is published in the Federal Register.

ADDRESSES: Information will be available for public review and comment in the Office of the Superintendent, Grand Canyon National Park, P.O. Box 129, Grand Canyon, Arizona 86023; 923-638-7945.

FUR FURTHER INFORMATION CONTACT: Joseph Alston, Superintendent, Grand Canyon National Park, 928-638-7945.

SUPPLEMENTARY INFORMATION: If you wish to comment on the scoping brochure, you may submit your comments by any one of several methods. You may mail comments to CRMP Project, Grand Canyon National Park, P.O. Box 129, Grant Canyon, Arizona 86023. You may also comment via electronic mail (e-mail) to grca_crmp@nps.gov. Please submit e-mail comments as a text file avoiding the use of special characters and any form of encryption. Please also include your name, e-mail address, and return address in your e-message. If you do not receive a confirmation from the system that we have received your Internet message, contact Linda Jalbert at 928-638-7909. Finally, you may hand-deliver comments to Grand Canyon National Park. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

FOR FURTHER INFORMATION CONTACT: Superintendent, Grand Canyon National Park, 928-638-7945.

Dated: May 3, 2002.
Michael D. Synder,
Director, Intermountain Region, National Park Service.

[FR Doc. 02-14977 Filed 6-12-02; 8:45 am]

BILLING CODE 4310-70-M